DEPARTMENT OF TRANSPORTATION

Federal Aviation Administration

Advisory Circular: Change 1 to 23-21, Airworthiness Compliance Checklists Used To Substantiate Major Alterations for Small Airplanes

AGENCY: Federal Aviation Administration (FAA), DOT.

ACTION: Notice of issuance of advisory circular.

SUMMARY: This notice announces the issuance of change 1 to Advisory Circular (AC) 23-21, Airworthiness Compliance Checklists Used to Substantiate Major Alterations for Small Airplanes. The most significant change is a revision in all locations to the signature required so the aircraft may be returned to service after major alteration. The Aviation Safety Inspector in the Flight Standards District Office must now sign instead of an Airframe and Powerplant mechanic. Other changes were minor.

DATES: Change 1 to Advisory Circular 23-21 was issued by the Acting Manager of the Small Airplane Directorate on March 16, 2005.

How to Obtain Copies: A paper copy of change 1 to AC 23-21 may be obtained by writing to the U.S. Department of Transportation, Subsequent Distribution Office, DOT Warehouse, SVC-121.23, Ardmore East Business Center, 3341Q 75th Ave., Landover, MD 20785, telephone 301-322-5377, or by faxing your request to the warehouse at 301-386-5394. The change to the AC will also be available on the Internet at http://www.faa.gov/certification/aircraft.

Issued in Kansas City, Missouri on April 8, 2005.
Nancy C. Lane,
Acting Manager, Small Airplane Directorate, Aircraft Certification Service.

[FR Doc. 05-7976 Filed 4-20-05; 8:45 am]

BILLING CODE 4910-13-P